AFRICAN DEVELOPMENT FOUNDATION

Board of Directors Meeting; Sunshine Act

TIME: 9 a.m. to 1 p.m.

PLACE: ADF Headquarters.

DATE: Friday, October 13, 2000.

STATUS: Open.

Agenda

9:00 a.m.—Chairman's Report

9:30 a.m.—President's Report

10:30 a.m.—New Business

11:00 a.m.—Executive Session (Closed)

1:00 p.m.—Adjournment

If you have any questions or comments, please direct them to Dick Day, Coordinator, Office of Policy, Planning and Outreach, who can be reached at (202) 673-3916.

Nathaniel Fields,
President.

[FR Doc. 00-26351 Filed 10-10-00; 1:17 pm]

BILLING CODE 6116-01-U